SMALL BUSINESS ADMINISTRATION

Delegation of Authority

AGENCY: U.S. Small Business Administration.

ACTION: Notice of delegation of authority.

SUMMARY: This document provides the public notice of the delegation of authority for certain investment activities by the Administrator of the Small Business Administration (SBA) to the Deputy Administrator, the Chief of Staff and the Agency Licensing Committee.

FOR FURTHER INFORMATION CONTACT: A. Joseph Shepard, Associate Administrator for Investment, U.S. Small Business Administration, 409 3rd Street, SW., Washington, DC 20416; telephone number: (202) 205-6565, facsimile number: (202) 481-2893; and electronic mail: joseph.shepard@sba.gov.

SUPPLEMENTARY INFORMATION: This document provides the public notice of the Administrator's delegation of authority with respect to the Administrator's approval of applications for licenses to operate as a small business investment company under the Small Business Investment Act of 1958, as amended, and issuance of licenses for such operation. This delegation of authority reads as follows:

Pursuant to the authority vested in me pursuant to section 301 of the Small Business Investment Act of 1958, as amended, the following authority relating to investment activities is delegated to the specific positions indicated herein as follows:

A. To the Deputy Administrator: the authority to approve applications for a license to operate as a small business investment company under the Small Business Investment Act of 1958, as amended; provided, that, during any period in which the Deputy Administrator is serving as the Acting Administrator, or the position of Deputy Administrator is vacant, or the Deputy Administrator is absent from the office (as defined in SBA Standard Operating Procedure 00 01 2), such authority is delegated to the Chief of Staff.

B. To the Agency Licensing Committee: the authority to take any and all actions necessary to review applications for licensing under section 301 of the Small Business Investment Act of 1958, as amended, and to recommend to the Deputy Administrator which such applications should be approved.

The Agency Licensing Committee shall be composed of the following members: Associate Administrator for Capital Access, Chair, Associate Administrator for Investment, General Counsel, Deputy General Counsel, Chief Financial Officer.

This authority revokes all other authorities granted by the Administrator to recommend and approve applications for a license to operate as a small business investment company under the Small Business Investment Act of 1958, as amended. This authority may not be re-delegated; however, in the event that the person serving in one of the positions listed as a member of the Agency Licensing Committee is absent from the office, as defined in SBA Standard Operating Procedure 00 01 2, or is unable to perform the functions and duties of his or her position, the individual serving in an acting capacity, pursuant to a written and established line of succession, shall serve on the Committee during such absence or inability. This authority will remain in effect until revoked in writing by the Administrator or by operation of law.

Dated: July 7, 2008.
Jovita Carranza,
Acting Administrator.

[FR Doc. E8-17361 Filed 7-28-08; 8:45 am]

BILLING CODE 8025-01-P